DEPARTMENT OF COMMERCE

Foreign-Trade Zones Board

[B-77-2013]

Foreign-Trade Zone 84—Houston, Texas; Application for Subzone; Toshiba International Corporation; Houston, Texas

An application has been submitted to the Foreign-Trade Zones (FTZ) Board by the Port of Houston Authority, grantee of FTZ 84, requesting subzone status for the facilities of Toshiba International Corporation located in Houston, Texas. The application was submitted pursuant to the provisions of the Foreign-Trade Zones Act, as amended (19 U.S.C. 81a-81u), and the regulations of the FTZ Board (15 CFR part 400). It was formally docketed on August 8, 2013.

The proposed subzone would consist of the following sites: Site 1 (0.868 acres)—HEV Plant, 13131 West Little York Road, Houston; Site 2 (2.966 acres)—Warehouse #1, 10510 Okanella Street, Suite 200, Houston; Site 3 (3.214 acres)—Warehouse #2, 10435 Okanella Street, Houston; and, Site 4 (2.548 acres)—Warehouse #3, 6355 Clara Road, Suite 100, Houston. A notification of production activity was authorized on June 11, 2013 (B-17-2013).

In accordance with the FTZ Board's regulations, Camille Evans of the FTZ Staff is designated examiner to review the application and make recommendations to the FTZ Board.

Public comment is invited from interested parties. Submissions shall be addressed to the FTZ Board's Executive Secretary at the address below. The closing period for their receipt is September 23, 2013. Rebuttal comments in response to material submitted during the foregoing period may be submitted during the subsequent 15-day period to October 7, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Camille Evans at Camille.Evans@trade.gov or at (202) 482-2350.

Dated: August 8, 2013.
Andrew McGilvray,
Executive Secretary.

[FR Doc. 2013-19598 Filed 8-12-13; 8:45 am]

BILLING CODE 3510-DS-P